DEPARTMENT OF DEFENSE

Office of the Secretary

Notice of Final Programmatic Environmental Assessment and Finding of No Significant Impact for the Millennium Challenge 2002 Joint Integrating Experiment

AGENCY: U.S. Joint Forces Command, DoD.

ACTION: Finding of no significant impact.

SUMMARY: Pursuant to section 101(2)(C) of the National Environmental Policy Act (NEPA) of 1969 and the Council on Environmental Quality regulations (40 CFR parts 1500-1508) implementing the procedural provisions of NEPA, U.S. Joint Forces Command (JFCOM) gives notice that a Programmatic Environmental Assessment (EA) has been prepared and an Environmental Impact Statement (EIS) is not required for the Millennium Challenge 2002 Joint Integrating Experiment scheduled to be conducted during July and August 2002 in the southwest region of the U.S. and offshore waters of southern California. JFCOM is issuing a Finding of No Significant Impact (FONSI).

FOR FURTHER INFORMATION CONTACT: Mr. Steven Chambliss, Joint Experimentation, U.S. Joint Forces Command, 1562 Mitscher Ave., Suite 200, Norfolk, VA 23551-2488; phone (757) 836-0966.

SUPPLEMENTARY INFORMATION: Millennium Challenge 2002 (MC02) is a Department of Defense (DoD) “major joint integrating experiment” scheduled to be conducted from July 24 to August 15, 2002 in the southwest region of the U.S. and offshore waters of Southern California. Congressional language in the FY01 Defense Authorization Act mandated conduct of the joint integrating experiment and specifically directed the demonstration of a rapid, decisive military operational concept. MC02 responds to Congressional direction and is sponsored by U.S. Joint Forces Command (USJFCOM) based in Norfolk, Virginia. Each of the services proposes to conduct their own experimentation under the umbrella of MC02. The Services have separately assessed the environmental impacts of their actions and determined that the impacts will not be significant. JFCOM conducted an overall, or programmatic assessment of the MC02 Proposed Actions. This assessment considered the potential cumulative effects of the Proposed Actions of the four individual Services during MC02.

Proposed Action

A military Joint Task Force (JTF) will be established by the Secretary of Defense to conduct exercise military operations against hypothetical Country RED. The Commander of the Joint Task Force (CJTF) will be the Commander of the Army III Corps who will command the operation from a land-based headquarters in Suffolk, Virginia and from the San Diego-based Navy Command Ship, USS CORONADO. Each of the Services will provide combat forces to the Joint Task Force. The Air Force proposes to participate with an Air Expeditionary Wing (AEW) at Nellis AFB, Nevada and Nevada Test and Training Range (NTTR) and would conduct 5 days of live flying during MC02. For the Army, the Proposed Action involves approximately 4,500 soldiers conducting operations at the National Training Center (NTC), Fort Irwin, CA. Southern California Logistics Airport (SCLA) near Victorville, CA would be used as a transshipment base (TSB) for movement of Army units by air and ground to and from NTC.

The Marine Corps participation in MC02, called Millennium Dragon, would include a small amphibious landing at MCB Camp Pendleton and urban warfare training exercises at SCLA. Operations would be battalion-sized with a maximum of approximately 1,200 Marines participating. The Navy proposes to conduct a series of experimental activities within MC02 called Fleet Battle Experiment Juliet (FBE J). Activities planned include special operations, mine warfare, anti-submarine warfare (ASW), anti-surface warfare (ASUW), joint fires, and intelligence, surveillance, and reconnaissance (ISR). Forces participating would include 12 ships, 19 aircraft, and about 2,500 personnel at various locations including ocean operating areas off southern California, Point Mugu sea range, San Clemente Island, San Nicolas Island, and China Lake land range.

Alternatives Considered

Geographic Alternatives Evaluated: Ten selection criteria were identified for the location of the MC02 live events: The only other region in the U.S. that could satisfy some of the criteria is the mid-Atlantic region including military ranges in Virginia, North Carolina, and Georgia, and offshore operating areas. The mid-Atlantic region did not meet several key criteria that are essential to fully achieving MC02 objectives.

No-Action Alternative

The no-action alternative would: Fail to comply with Congressional direction to conduct the exercise in fiscal year 2002; fail to assess the U.S. capability to conduct Rapid Decisive Operations (RDO); slow the Department of Defense transformation effort by limiting experimentation to virtual and simulated events; curtail ongoing Service experimentation efforts which are embedded in MC02; increase the quantity of live events required in future joint integrating experiments; and hamper the Services' requirements determination process in which experimental insights gained in MC02 will drive development of future acquisition requirements. Implementation of the No Action alternative would only postpone the integrating experimentation that DoD must inevitably conduct.

Environmental Impacts

The analysis evaluated the potential environmental consequences of military operations in the southwest U.S. and offshore southern California as part of Millennium Challenge 2002. The resource areas analyzed included air quality, water quality, airborne and underwater noise, biological resources, land use, cultural resources, socioeconomics, environmental justice, transportation and circulation, and hazardous materials and waste. The individual Services separately assessed that their individual experimentation activities would have a less than significant impact on the environment. The programmatic assessment in this EA also concluded that overall there would be no significant impacts from MC02 actions in any resource area.

Cumulative Impacts

The individual Services' Proposed Actions would take place within the boundaries of their own existing bases and facilities, test and training ranges, ocean operating areas, or leased facilities. Considerations in assessing the potential cumulative impacts of the MC02 Proposed Actions include: size of the area in which Proposed Actions would occur; multiple service Proposed Actions occurring at the same location; and Proposed Actions compared to normal activity levels. The very large size of the proposed operations area resource. The single MC02 locale with significant overlap of service actions is at SCLA near Victorville, California. Both Marines and the Army plan to use SCLA during MC02, but for different functions. The cumulative impact of Army and Marine activities at SCLA on air quality, airborne noise, land use, and public health and safety were assessed as less than significant. Though MC02 is a large exercise, the level of field activity proposed at any individual base, range, or facility is within the capacity of the base, range, or facility to handle and typical of normal activity levels.

The Proposed Actions of MC02 will occur over a 23-day period in July and August 2002. To the extent there are potential environmental impacts, the short duration will cause the impacts to dissipate over time and cease to contribute to cumulative impacts in the region. Based on the considerations and factors discussed above, the proposed activities of MC02 would not have a significant cumulative effect on the environment in the southern California and Nevada region.

Determination

An analysis of the proposed action determined that there are no significant short-term or long-term effects to the human environment or surrounding populations from Millennium Challenge 2002. The analysis also determined that the proposed activities of MC02 would not have a significant cumulative impact on the environment in the southern California and Nevada region. After careful and thorough consideration of the facts contained herein, the undersigned finds that the proposed Federal action is consistent with existing national environmental policies and objectives as set forth in section 101(a) of the National Environmental Policy Act of 1969 (NEPA) and that it will not significantly affect the quality of the human environment or otherwise include any condition requiring consultation pursuant to Section 101(2)(C) of NEPA. Therefore, an Environmental Impact Statement for Millennium Challenge 2002 is not required.

Dated: July 16, 2002.
Patricia L. Toppings,
Alternate OSD Federal Register Liaison Officer, Department of Defense.

[FR Doc. 02-18479 Filed 7-22-02; 8:45 am]

BILLING CODE 5001-08-P